DEPARTMENT OF ENERGY

Western Area Power Administration

Cheyenne-Miracle Mile 115-Kilovolt Transmission Line Rebuild Project, Laramie, Albany, and Carbon Counties, WY

AGENCY: Western Area Power Administration, DOE.

ACTION: Notice of floodplain/wetland involvement.

SUMMARY: The Western Area Power Administration (Western), a power marketing agency of the U.S. Department of Energy (DOE), is the lead Federal agency for a proposal to rebuild 140 miles of the Cheyenne-Miracle Mile 115-kilovolt (kV) transmission line located in Laramie, Albany, and Carbon counties, Wyoming. Western plans to rebuild the segment of line between Cheyenne and Seminoe, Wyoming. A number of floodplains associated with small drainages are crossed by the existing transmission line. Some of these floodplains have transmission line structures located within a 100-year floodplain. Western will incorporate an assessment of floodplains/wetlands in the Environmental Assessment being prepared for the project, and would perform the proposed actions in a manner so as to avoid or minimize potential harm to or within the affected floodplains/wetlands.

DATES: Comments on the proposed floodplain/wetland action are due to the address below no later than May 13, 2003.

ADDRESSES: Comments should be addressed to Mr. Jim Hartman, Environmental Manager, Rocky Mountain Region, Western Area Power Administration, P.O. Box 3700, Loveland, CO 80539-3003, fax (970) 461-7213, e-mail hartman@wapa.gov.

FOR FURTHER INFORMATION CONTACT: Mr. Rodney Jones, Environmental Specialist, Rocky Mountain Region, Western Area Power Administration, P.O. Box 3700, Loveland, CO 80539-3003, telephone (970) 461-7371, e-mail rjones@wapa.gov.

SUPPLEMENTARY INFORMATION: The proposal to rebuild the Cheyenne-Miracle Mile 115-kV transmission line between Cheyenne and Seminoe, Wyoming, would involve construction activities within floodplains and wetlands. Most of this line (139.69 miles) was constructed as part of the Seminoe-Cheyenne transmission line in 1939; the remaining 6.60 miles were reconstructed by Western and placed into service in February 1992. The Seminoe-Cheyenne segment of the line was constructed with wood pole H-frame structures.

Due to age and weather exposure of this facility, many of the transmission line structures and related hardware have deteriorated. The line is presently 64 years old. Because of its age the potential for structural failures and power outages has increased.

The existing transmission line right-of-way (ROW) width is 75 feet. Depending on which design alternative is selected, the maximum transmission line ROW width acquired would be 125 feet. The transmission line crosses primarily private land, although there are some public lands managed by the Bureau of Land Management and the State of Wyoming. Based on a review of Federal Emergency Management Agency floodplain hazard maps, Western has determined that a number of 100-year floodplains associated with small drainages are crossed by the existing transmission line. Some structures fall within the boundaries of these floodplains, and would be replaced under the proposed action.

As the lead Federal agency, Western will prepare an Environmental Assessment for the proposed project, in compliance with the National Environmental Policy Act (NEPA), and regulations promulgated by the Council on Environmental Quality for implementing the procedural provisions of NEPA (40 CFR part 1500-1508) and the DOE NEPA Implementing Procedures (10 CFR part 1021). The Environmental Assessment will examine the proposed construction activities in floodplains/wetlands, in accordance with DOE's Floodplain/Wetland Review Requirements (10 CFR part 1022).

It is Western's goal to rebuild the Cheyenne-Miracle Mile transmission line in a manner that minimizes impacts to the natural, human, and cultural environments while improving our ability to maintain and operate the transmission line in a safe and environmentally sound manner. To the extent possible, the proposed rebuild would use the existing transmission line corridor and established trails and roads for access.

Maps and further information are available from Western from the contact above.

Dated: April 11, 2003.
Michael S. Hacskaylo,
Administrator.

[FR Doc. 03-10375 Filed 4-25-03; 8:45 am]

BILLING CODE 6450-01-P